DEPARTMENT OF COMMERCE

Submission for OMB Review; Comment Request

The Department of Commerce has submitted to the Office of Management and Budget (OMB) for clearance the following proposal for collection of information under the provisions of the Paperwork Reduction Act (44 U.S.C. Chapter 35).

Agency: International Trade Administration (ITA).

Title: Implementation of Tariff Rate Quota Established Under the Tax Relief and Health Care Act of 2006 for Imports of Certain Cotton Woven Fabrics.

OMB Control Number: 0625-0260.

Form Number(s): ITA-4156P.

Type of Request: Regular submission.

Burden Hours: 10.

Number of Respondents: 10.

Average Hours per Response: 1 hour.

Needs and Uses: The Tax Relief and Heath Care Act of 2006 (“the Act”) contains provisions to assist the men's and boys' cotton shirting industry. Among these provisions, the Act creates an annual Tariff Rate Quota (TRQ) providing for temporary reductions through December 31, 2009, in the import duties of cotton woven fabrics suitable for making men's and boys' cotton shirts (new Harmonized Tariff Schedule of the United States (HTS) headings 9902.52.08, 9902.52.09, 9902.52.10, 9902.52.11, 9902.52.12, 9902.52.13, 9902.52.14, 9902.52.15, 9902.52.16, 9902.52.17, 9902.52.18, and 9902.52.19). The reduction in duty is limited to 85 percent of the total square meter equivalents of all imported woven fabrics of cotton containing 85 percent or more by weight cotton used by manufacturers in cutting and sewing men's and boys' cotton shirts in the United States and purchased by such manufacturer during calendar year 2000.

Section 406(b)(1) of the Act requires the Secretary of Commerce to fairly allocate the tariff rate quota. More specifically, the Secretary of Commerce must issue licenses and ensure that the TRQ is fairly allocated to eligible manufacturers under the above headings. The TRQ is effective for goods entered or withdrawn from warehouse for consumption, on or after January 1, 2007, and will remain in force through 2009. The TRQ will be allocated each year and a TRQ allocation will be valid only in the year for which it is issued.

The reduction of import duties provided by the TRQ will be of considerable benefit to firms that receive TRQ allocations. It will lower these firms' cost of production, enabling them to better compete with foreign imports.

Affected Public: Business or other for-profit organizations.

Frequency: Annually.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, Fax number (202) 395-7285 or via the Internet at David_Rostker@omb.eop.gov.

Dated: December 10, 2007.
Gwellnar Banks,
Management Analyst, Office of the Chief Information Officer.

[FR Doc. E7-24198 Filed 12-13-07; 8:45 am]

BILLING CODE 3510-DS-P